DEPARTMENT OF HOMELAND SECURITY

Federal Emergency Management Agency

44 CFR Part 67

[Docket ID FEMA-2010-0003; Internal Agency Docket No. FEMA-B-1163]

Proposed Flood Elevation Determinations

AGENCY: Federal Emergency Management Agency, DHS.

ACTION: Proposed Rule.

SUMMARY: Comments are requested on the proposed Base (1% annual-chance) Flood Elevations (BFEs) and proposed BFE modifications for the communities listed in the table below. The purpose of this notice is to seek general information and comment regarding the proposed regulatory flood elevations for the reach described by the downstream and upstream locations in the table below. The BFEs and modified BFEs are a part of the floodplain management measures that the community is required either to adopt or to show evidence of having in effect in order to qualify or remain qualified for participation in the National Flood Insurance Program (NFIP). In addition, these elevations, once finalized, will be used by insurance agents and others to calculate appropriate flood insurance premium rates for new buildings and the contents in those buildings.

DATES: Comments are to be submitted on or before March 16, 2011.

ADDRESSES: The corresponding preliminary Flood Insurance Rate Map (FIRM) for the proposed BFEs for each community is available for inspection at the community's map repository. The respective addresses are listed in the table below.

You may submit comments, identified by Docket No. FEMA-B-1163, to Luis Rodriguez, Chief, Engineering Management Branch, Federal Insurance and Mitigation Administration, Federal Emergency Management Agency, 500 C Street, SW., Washington, DC 20472, (202) 646-4064, or (e-mail) luis.rodriguez1@dhs.gov.

FOR FURTHER INFORMATION CONTACT: Luis Rodriguez, Chief, Engineering Management Branch, Federal Insurance and Mitigation Administration, Federal Emergency Management Agency, 500 C Street, SW., Washington, DC 20472, (202) 646-4064, or (e-mail) luis.rodriguez1@dhs.gov.

SUPPLEMENTARY INFORMATION: The Federal Emergency Management Agency (FEMA) proposes to make determinations of BFEs and modified BFEs for each community listed below, in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own or pursuant to policies established by other Federal, State, or regional entities. These proposed elevations are used to meet the floodplain management requirements of the NFIP and also are used to calculate the appropriate flood insurance premium rates for new buildings built after these elevations are made final, and for the contents in those buildings.

Comments on any aspect of the Flood Insurance Study and FIRM, other than the proposed BFEs, will be considered. A letter acknowledging receipt of any comments will not be sent.

National Environmental Policy Act. This proposed rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Executive Order 12866, Regulatory Planning and Review. This proposed rule is not a significant regulatory action under the criteria of section 3(f) of Executive Order 12866, as amended.

Executive Order 13132, Federalism. This proposed rule involves no policies that have federalism implications under Executive Order 13132.

Executive Order 12988, Civil Justice Reform. This proposed rule meets the applicable standards of Executive Order 12988.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

Flooding source(s) | Location of referenced elevation** | * Elevation in feet (NGVD) + Elevation in feet (NAVD) # Depth in feet above ground ‸ Elevation in meters (MSL): Effective | * Elevation in feet (NGVD) + Elevation in feet (NAVD) # Depth in feet above ground ‸ Elevation in meters (MSL): Modified | Communities affected
Putnam County, Florida, and Incorporated Areas
Devall Branch | Approximately 181 feet downstream of the railroad | +5 | +6 | Unincorporated Areas of Putnam County.
| Just downstream of Davis Lake Road | None | +60
Two Mile Creek | Just downstream of Cherry Trail | +5 | +6 | City of Palatka, Unincorporated Areas of Putnam County.
| Approximately 251 feet upstream of Mellon Road | None | +57
Unnamed Tributary | Approximately 84 feet upstream of the confluence with Two Mile Creek | None | +12 | Unincorporated Areas of Putnam County.
| Approximately 184 feet upstream of Old Peniel Road | None | +51
* National Geodetic Vertical Datum. | + North American Vertical Datum. | # Depth in feet above ground. | ‸ Mean Sea Level, rounded to the nearest 0.1 meter. | ** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street SW., Washington, DC 20472.
ADDRESSES
City of Palatka
Maps are available for inspection at 201 North 2nd Street, Palatka, FL 32177.
Unincorporated Areas of Putnam County
Maps are available for inspection at 515 Reid Street, Building 1D, Palatka, FL 32177.
Lenawee County, Michigan (All Jurisdictions)
Bean Creek | Approximately 0.50 mile upstream of Jackson Street | None | +905 | Township of Hudson.
| Approximately 1,600 feet west of the intersection of Maple Grove Avenue and Cadmus Road | None | +909
Lake Loch Erin | Entire shoreline within community | None | +927 | Township of Cambridge, Township of Franklin.
River Raisin | Approximately 0.5 mile downstream of Bucholtz Highway Approximately 0.8 mile downstream of West Michigan Avenue | None None | +669 +798 | Charter Township of Raisin, Township of Blissfield, Township of Clinton, Township of Deerfield, Township of Tecumseh.
South Branch River Raisin | Approximately 1,150 feet downstream of U.S. Route 223 | None | +753 | Charter Township of Madison.
| Approximately 850 feet downstream of U.S. Route 223 | None | +753
Wolf Creek | Approximately 1,050 feet upstream of Bent Oak Avenue | None | +762 | City of Adrian.
| Approximately 0.4 mile upstream of Wolf Creek Highway | None | +784
Wolf Creek | Approximately 1,050 feet upstream of Bent Oak Avenue | None | +762 | Charter Township of Adrian.
| Approximately 1,600 feet upstream of Bent Oak Avenue | None | +762
* National Geodetic Vertical Datum. | + North American Vertical Datum. | # Depth in feet above ground. | ‸ Mean Sea Level, rounded to the nearest 0.1 meter. | ** BFEs to be changed include the listed downstream and upstream BFEs, and include BFEs located on the stream reach between the referenced locations above. Please refer to the revised Flood Insurance Rate Map located at the community map repository (see below) for exact locations of all BFEs to be changed. | Send comments to Luis Rodriguez, Chief, Engineering Management Branch, Federal Insurance and Mitigation Administration, Federal Emergency Management Agency, 500 C Street, SW., Washington, DC 20472.
ADDRESSES
Charter Township of Adrian
Maps are available for inspection at 2907 Tipton Highway, Adrian, MI 49221.
Charter Township of Madison
Maps are available for inspection at 4008 South Adrian Highway, Adrian, MI 49221
Charter Township of Raisin
Maps are available for inspection at 5525 Occidental Highway, Tecumseh, MI 49286.
City of Adrian
Maps are available for inspection at 135 East Maumee Street, Adrian, MI 49221.
Township of Blissfield
Maps are available for inspection at 120 South Lane Street, Blissfield, MI 49228.
Township of Cambridge:
Maps are available for inspection at 9990 West M50, Onsted, MI 49265.
Township of Clinton
Maps are available for inspection at 172 West Michigan Avenue, Clinton, MI 49236.
Township of Deerfield
Maps are available for inspection at 468 Carey Street, Deerfield, MI 49238.
Township of Franklin
Maps are available for inspection at 4041 Monroe Road, Tipton, MI 49287.
Township of Hudson
Maps are available for inspection at 14510 Carleton Road, Hudson, MI 49247.
Township of Tecumseh
Maps are available for inspection at 320 Springbrook Avenue, Suite 102, Adrian, MI 49221.
Crook County, Oregon, and Incorporated Areas
Crooked River | Approximately 2.6 miles downstream of Ochoco Highway | +2829 | +2833 | Unincorporated Areas of Crook County.
| Approximately 2.0 miles downstream of Ochoco Highway | +2834 | +2836
Ochoco Creek | Approximately 0.7 mile downstream of Northwest Madras Highway | +2831 | +2834 | City of Prineville, Unincorporated Areas of Crook County.
| Just downstream of Wayland Road | +3001 | +3005
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street, SW., Washington, DC 20472.
ADDRESSES
City of Prineville
Maps are available for inspection at City Hall, 387 Northeast 3rd Street, Prineville, OR 97754.
Unincorporated Areas of Crook County
Maps are available for inspection at the Crook County Courthouse, 300 Northeast 3rd Street, Prineville, OR 97754.

(Catalog of Federal Domestic Assistance No. 97.022, “Flood Insurance.”)

Dated: December 3, 2010.
Sandra K. Knight,
Deputy Federal Insurance and Mitigation Administrator, Mitigation, Department of Homeland Security, Federal Emergency Management Agency.

[FR Doc. 2010-31548 Filed 12-15-10; 8:45 am]

BILLING CODE 9110-12-P